GENERAL SERVICES ADMINISTRATION

[OMB Control No. 3090-00XX]

Office of Facilities Management and Program Services; Information Collection; HSPD-12, Background Check Investigations for Temporary Contractors and Child Care Workers

AGENCY: Office of Facilities Management and Program Services, Public Building Service (PBS), General Services Administration (GSA).

ACTION: Notice of request for comments regarding a new OMB information collection.

SUMMARY: Under the provisions of the Paperwork Reduction Act of 1995 (44 U.S.C. Chapter 35), the General Services Administration will be submitting to the Office of Management and Budget (OMB) a request to review and approve the new information collection requirement regarding the collection of personal data for background check investigations for temporary contractors and child care workers accessing GSA owned and leased controlled facilities.

Public comments are particularly invited on: Whether this collection of information is necessary and whether it will have practical utility; whether our estimate of the public burden of this collection of information is accurate, and based on valid assumptions and methodology; ways to enhance the quality, utility, and clarity of the information to be collected.

DATES: Submit comments on or before: April 20, 2009.

FOR FURTHER INFORMATION CONTACT: Ms. Layna Koentopf, Program Analyst, Building Security and Policy Division, GSA, 1800 F Street, NW., Washington, DC 20405; or telephone (202) 208-1585. Please cite OMB Control No. 3090-00XX, HSPD-12, Background Check Investigations for Temporary Contractors and Child Care Workers.

ADDRESSES: Submit comments regarding this burden estimate or any other aspect of this collection of information, including suggestions for reducing this burden to the Regulatory Secretariat (VPR), General Services Administration, Room 4035, 1800 F Street, NW., Washington, DC 20405. Please cite HSPD-12, Background Check Investigations for Temporary Contractors and Child Care Workers, in all correspondence.

SUPPLEMENTARY INFORMATION:

A. Purpose

Homeland Security Presidential Directive (HSPD) 12 “Policy for a Common Identification Standard for Federal Employees and Contractors” requires the implementation of a governmentwide standard for secure and reliable forms of identification for Federal employees and contractors. OMB's implementing instructions require all contract employees requiring routine access to federally controlled facilities for greater than six (6) months to receive a background investigation. The minimum background investigation is the National Agency Check with Written Inquiries or NACI.

The policy on background check requirements for temporary contractors, defined as requiring access for six (6) months or less, is up to each individual agency. GSA requires that temporary contractors who will be working up to 6 months and need routine access to nonpublic areas of GSA-controlled facilities shall either undergo a law enforcement check or must be escorted, at the minimum. Because of a lack of escorting personnel, temporary contractors expected to work more than 10 days usually receive law enforcement checks.

In addition, there is no requirement in the law or HSPD-12 that requires child care employees to be subject to the NACI since employees of child care providers are neither government employees nor government contractors. Instead, the child care providers are required to complete the criminal history background checks mandated in the Crime Control Act of 1990, Public Law 101-647, dated November 29, 1990, as amended by Public Law 102-190, dated December 5, 1991. These statutes require that each employee of a child care center located in a Federal building or in leased space must undergo a background check.

According to GSA policy, both temporary contractors and child care workers (as described above) will need to submit the following:

1. An original signed copy of a Basic National Agency Check Criminal History, GSA Form 176T (for temporary contractors); or a Basic National Agency Check Criminal History, GSA Form 176C (for child care workers); and

2. Two sets of fingerprints on FBI Fingerprint Cards, for FD-258.

This is not a request to collect new information, this is a request to change the form that is currently being used to collect this information. The new GSA forms will be less of a public burden. This information is presently being collected on either the old Federal Protective Service 176 Form or the SF85P.

B. Annual Reporting Burden

Respondents: 18,800.

Responses per Respondent: 1.

Hours per Response: 1.

Total Burden Hours: 18,800.

Obtaining Copies of Proposals: Requesters may obtain a copy of the information collection documents from the General Services Administration, Regulatory Secretariat (VPR), 1800 F Street, NW., Room 4041, Washington, DC 20405, telephone (202) 501-4755. Please cite HSPD-12, Background Check Investigations for Temporary Contractors and Child Care Workers, in all correspondence.

Dated: February 12, 2009.
Casey Coleman,
Chief Information Officer, General Services Administration.

[FR Doc. E9-3402 Filed 2-13-09; 8:45 am]

BILLING CODE 6820-XX-P